DEPARTMENT OF THE INTERIOR

Geological Survey

[GX23EN05ESBJF00]

Assessment of Biodiversity and Climate Change; Request for Public Comment and Nomination

AGENCY: U.S. Geological Survey, Interior.

ACTION: Notice.

SUMMARY: The U.S. Geological Survey (USGS) provides science to support the mission of the Department of the Interior. In the FY22 budget, Congress charged the USGS with developing an assessment of the linkages between biodiversity and climate change. The USGS, in collaboration with Environment and Climate Change Canada (ECCC) and Mexico's La Comisión Nacional para el Conocimiento y Uso de la Biodiversidad (CONABIO), and with assistance from the Morris K. Udall and Stewart L. Udall Foundation's John S. McCain III National Center for Environmental Conflict Resolution (National Center), will undertake a two-year (2023-2025) regional assessment of biodiversity and climate change, culminating in the first-ever assessment report addressing these two challenges together for the United States, Canada, Mexico, U.S. territories, and Freely Associated States. This notice announces the opportunity for the public to comment on the draft prospectus for the assessment, provide nominations for membership on the assessment authoring team (administered by the USGS), and provide expressions of interest in serving on the Biodiversity and Climate Change Assessment Guidance Committee (Guidance Committee) which will be convened by the National Center.

DATES:

• Comments regarding the draft prospectus must be submitted no later than July 7, 2023.

• Nominations for participation on the authoring team must be submitted no later than July 7, 2023.

• Expressions of interest or requests for additional information about the assessment Guidance Committee must be submitted no later than June 7, 2023.

ADDRESSES: The draft prospectus may be viewed and downloaded electronically here: https://contribute.globalchange.gov/.

You may submit comments, nominations, an expression of interest, and/or a request for additional information, by any of the following methods: by email to biodiversityclimatechange@usgs.gov or through the portal at https://contribute.globalchange.gov/; or

FOR FURTHER INFORMATION CONTACT: To request additional information about this information collection request (ICR), contact Katherine C. Malpeli by email at biodiversityclimatechange@usgs.gov or by telephone at 919-896-5029. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The assessment process and report production will be led by the USGS and will be authored by 130 scientists, policy experts, practitioners, and relevant knowledge-holders from government, universities, communities, and the private sector. Authoring-team roles include co-chairs, coordinating lead authors, lead authors, and review editors. The 35-member Guidance Committee, an independent, multidisciplinary stakeholder body with diverse policy and technical expertise, will be convened and facilitated by the National Center. Guidance Committee members will engage throughout the assessment process and report production to provide guidance and feedback regarding the policy relevance of the report content and ensure its messaging supports policymakers and other report audiences. The National Center will convene the Guidance Committee on a rolling basis, beginning early in the assessment process, to ensure that the Guidance Committee can provide multidisciplinary perspectives on the draft prospectus and assessment report drafts.

All authoring team and Guidance Committee members are expected to contribute meaningfully and substantially to the assessment process. The authoring team and Guidance Committee will comprise experts, knowledge-holders, and practitioners with experience in a number of areas, including (but not limited to) the physical sciences, biological sciences, social sciences, climate-change impacts, application of indigenous and local knowledge, valuation of biodiversity and ecosystem services (economic and non-economic), conservation decision-making and planning (local to national), and existing laws, policies, and policy tools relevant to biodiversity or climate change. Participants are sought from diverse backgrounds and sectors, including (but not limited to) academic institutions, governmental and non-governmental research institutions, government agencies concerned with natural-resource management (local to national), indigenous governments and communities, business and industry, non-governmental organizations, and the general public. The assessment process is committed to an inclusive approach, with diverse representation among disciplines, perspectives, sectors, regions, expertise, and demographic backgrounds.

The assessment will build on the recently completed Intergovernmental Science-Policy Platform on Biodiversity and Ecosystem Services (IPBES) global assessment and the Intergovernmental Panel on Climate Change-IPBES co-sponsored scientific outcome report, scaling down to the continental, national, and subnational contexts. The resulting report will contribute to the National Nature Assessment, a 4-year undertaking led by the U.S. Global Change Research Program.

The authoring team and the Guidance Committee will meet periodically via virtual meetings from 2023 through 2025. The Guidance Committee and full authoring team will meet in person in Fall 2023. Likewise, the Guidance Committee and a subset of assessment authors (co-chairs, coordinating authors) will meet a second time in person in mid-2024.

Members of the Guidance Committee and assessment-authoring team (including review editors) serve as independent experts (i.e., not representing their institution or organization) on a voluntary basis without compensation. However, while away from their homes or regular places of business, Guidance Committee members and assessment authors engaged in meetings associated with the development of this assessment report may be entitled to travel expenses, including per diem in lieu of subsistence, as authorized by 5 U.S.C. 5703, in the same manner as persons employed intermittently in Federal Government service.

The USGS and its partners seek:

• public comments on a draft prospectus (https://contribute.globalchange.gov/) for the assessment of biodiversity and climate change,

• nominations of individuals to serve on the assessment's authoring team,

• and expressions of interest and requests for additional information concerning the assessment's Guidance Committee.

Each nomination for the authoring team and each expression of interest for the Guidance Committee should include (a) name, (b) phone number, (c) email address, and (d) affiliation (where relevant). Additional information may also be shared at the nominator's discretion.

Public comments on the prospectus should be accompanied by the commentor's name, phone number, email address, and affiliation (at the commentor's discretion).

Shawn Carter,
Chief Scientist, National Climate Adaptation Science Center.

[FR Doc. 2023-09749 Filed 5-5-23; 8:45 am]

BILLING CODE 4388-11-P